DEPARTMENT OF HOMELAND SECURITY

Coast Guard

[Docket No. USCG-2016-0308]

Merchant Marine Personnel Advisory Committee

AGENCY: Coast Guard, DHS.

ACTION: Notice of Federal Advisory Committee Working Group meeting.

SUMMARY: A working group of the Merchant Marine Personnel Advisory Committee will meet to work on Task Statement 30, which asks the committee to evaluate utilizing military education, training, and assessment to satisfy national and STCW ¹ credential requirements. The working group will specifically consider the development and application of tonnage equivalencies and horsepower equivalencies for military ships. These meetings will be open to the public.

¹ International Convention on Standards of Training, Certification and Watchkeeping for Seafarers, 1978, as amended.

DATES: The Merchant Marine Personnel Advisory Committee working group is scheduled to meet daily on May 25, 2016 to May 26, 2016 from 8 a.m. until 5:30 p.m. Please note that these meetings may adjourn early if the working group has completed its business.

ADDRESSES: The meetings will be held at the Coast Guard National Maritime Center, 100 Forbes Drive, Martinsburg, WV 25404-7120, http://www.uscg.mil/nmc/. Entrance to the facility must be made via the front door and government issued identification will be required. Please arrive at least 30 minutes early for processing. For further information about the meeting facilities, please contact Ms. Karen Quigley at 304-433-3403 or via email at karen.l.quigley@uscg.mil. Please be advised that all attendees are required to notify the Merchant Marine Personnel Advisory Committee Alternate Designated Federal Officer of your attendance no later than May 19, 2016 using the contact information provided in the FOR FURTHER INFORMATION CONTACT section of this notice.

For information on facilities or services for individuals with disabilities or to request special assistance at the meeting, contact the Alternate Designated Federal Officer as soon as possible.

To facilitate public participation, we are inviting public comment on the issues to be considered by the working group as listed in the “Agenda” section below. Written comments for distribution to working group members must be submitted no later than May 19, 2016, if you want the working group members to be able to review your comments before the meeting, and must be identified by docket number USCG-2016-0308. Written comments may be submitted using the Federal eRulemaking Portal at http://www.regulations.gov. If your material cannot be submitted using http://www.regulations.gov, contact the Alternate Designated Federal Officer for alternate instructions.

Instructions: All submissions received must include the words “Department of Homeland Security” and the docket number for this action. Comments received will be posted without alteration at http://www.regulations.gov, including any personal information provided. You may review a Privacy Act notice regarding the Federal Docket Management System in the March 24, 2005, issue of the Federal Register (70 FR 15086).

Docket: For access to the docket to read documents or comments related to this notice, go to http://www.regulations.gov, type USCG-2016-0308 in the Search box, press Enter, and then click on the item you wish to view.

FOR FURTHER INFORMATION CONTACT: Mr. Davis Breyer, Alternate Designated Federal Officer of the Merchant Marine Personnel Advisory Committee, 2703 Martin Luther King Jr. Ave. SE., Stop 7509, Washington, DC 20593-7509, telephone 202-372-1445, fax 202-372-8382, or Davis.J.Breyer@uscg.mil.

SUPPLEMENTARY INFORMATION: Notice of this meeting is given under the Federal Advisory Committee Act, Title 5 United States Code Appendix.

The Merchant Marine Personnel Advisory Committee was established under authority of section 310 of the Howard Coble Coast Guard and Maritime Transportation Act of 2014, Title 46, United States Code, section 8108, and chartered under the provisions of the Federal Advisory Committee Act, (Title 5, United States Code, Appendix). The Committee acts solely in an advisory capacity to the Secretary of the Department of Homeland Security through the Commandant of the Coast Guard on matters relating to personnel in the United States merchant marine, including training, qualifications, certification, documentation, and fitness standards and other matters as assigned by the Commandant; shall review and comment on proposed Coast Guard regulations and policies relating to personnel in the United States merchant marine, including training, qualifications, certification, documentation, and fitness standards; may be given special assignments by the Secretary and may conduct studies, inquiries, workshops, and fact finding in consultation with individuals and groups in the private sector and with State or local governments; shall advise, consult with, and make recommendations reflecting its independent judgment to the Secretary.

Agenda

Day 1

The agenda for the May 25, 2016 meeting is as follows:

(1) The working group will meet briefly to discuss Task Statement 30, Utilizing military education, training and assessment for the International Convention on Standards of Training, Certification and Watchkeeping for Seafarers and U.S. Coast Guard Certifications; the purpose and goals of this intercessional; and the organization of this intercessional/workshop;

(2) Reports of working sub-groups. At the end of the day, the working sub-groups will report to the full working group on what was accomplished in their meetings. The full working group will not take action on these reports on this date. Any action taken as a result of this working group meeting will be taken on day 2 of the meeting.

(3) Public comment period.

(4) Adjournment of meeting.

Day 2

The agenda for the May 26, 2016 meeting is as follows:

(1) The working group will meet briefly to discuss Task Statement 30, Utilizing military education, training and assessment for the International Convention on Standards of Training, Certification and Watchkeeping for Seafarers and U.S. Coast Guard Certifications; the purpose and goals of this intercessional for this date; and any adaptations to the organization of this intercessional;

(2) Reports of working sub-groups. The working sub-groups will report to the full working group on what was accomplished in their meetings. The full working group will not take action on these reports at this time. Any action taken as a result of this working group meeting will be taken after the public comment period.

(3) Public comment period.

(4) Preparation of the meeting report to the Committee.

(5) Adjournment of meeting.

A public comment period will be held during each day during the working group meeting concerning matters being discussed. Speakers are requested to limit their comments to 3 minutes. Please note that the public comment periods may end before the prescribed ending times following the last call for comments.

Please contact Mr. Davis Breyer, listed in the FOR FURTHER INFORMATION CONTACT section, to register as a speaker. Please note that the meeting may adjourn early if the work is completed before 5:30 p.m.

Dated: April 25, 2016.
J.G. Lantz,
Director of Commercial Regulations and Standards, United States Coast Guard.

[FR Doc. 2016-09972 Filed 4-28-16; 8:45 am]

BILLING CODE 9110-04-P